DEPARTMENT OF TRANSPORTATION

Pipeline and Hazardous Materials Safety Administration

Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 18, 2012.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on May 08, 2012.
Donald Burger,
Chief, General Approvals and Permits.

Application No. | Docket No. | Applicant | Regulation(s) affected | Nature of special permits thereof
New Special Permits
15610-N |  | WavesinSolids LLC State College, PA | 49 CFR 180.209, 180.209(a), 180.205(c)(f)(g)(i), 173.302a(b)(2)(3)(4)(5), 180.213, 180.519(a), 180.519(b)(c) | To authorize the transportation in commerce of certain gases in DOT 3A, 3AA, 3AX, 3AAX and 3T cylinders. The cylinders (tubes) are retested by acoustic emission and ultrasonic examination (AE/UE) described in paragraph 7 below in place of the internal visual inspection and the hydrostatic retest required in § 180.205. (modes 1, 2, 3)
15621-N |  | Pacific Consolidated Industries, LLC Riverside, CA | 49 CFR 107.105(c), 173.302(f)(3)(4)(5), 175.501(e)(3) | To authorize the transportation in commerce of brass-lined filament wound cylinders identified as Mobile Oxygen Storage Tanks filled with certain Division 2.1 and 2.2 gases. (modes 1, 2, 3, 4, 5)
15623-N |  | Ledwell and Son Enterprises, Inc. Texarkana, TX | 49 CFR 173.202, 173.203, 173.241, 173.242 | To authorize the manufacture, marking, sale and use of multiple non-DOT specification containers, manifolded together within a frame and securely mounted on a truck chassis, for the transportation in commerce of the materials authorized by this special permit. (mode 1)
15624-N |  | Desert Air Transport Anchorage, AK | 49 CFR 172.101 Column (9B) | To authorize the transportation in commerce of certain Class 1 explosive materials which are forbidden for transportation by air, to be transported by cargo aircraft within the State of Alaska when other means of transportation are impracticable or not available. (mode 4)
15626-N |  | EC Source Aviation, LLC Mesa, AZ | 49 CFR 49 CFR Parts 172.101, Column (9b), 172.204(c)(3), 173.27(b)(2), 175.30(a)(1), 172.200, 172.300, and 172.400 | To authorize the transportation in commerce of certain hazardous materials by cargo aircraft including by external load in remote areas without being subject to hazard communication requirements and quantity limitations where no other means of transportation is available. (modes 3, 4)
15628-N |  | E.I. du Pont de Nemours and Company, Wilmington, DE | 49 CFR 179.100-12(c) | To authorize the transportation in commerce of hazardous material in tank cars with a manway housing which allows for opening from either of two sides. (mode 2)
15631-N |  | Atlas Air, Inc. Miami, FL | 49 CFR 172.101 Column (9B), 172.204(c)(3), 173.27 (b)(2)(3) | To authorize the transportation in commerce of Division 1.1 explosives, which are forbidden, by cargo-only aircraft. (mode 4)

[FR Doc. 2012-11655 Filed 5-16-12; 8:45 am]

BILLING CODE 4910-60-M